DEPARTMENT OF ENERGY

Federal Energy Regulatory Commission

Combined Notice of Filings #1

Take notice that the Commission received the following electric rate filings:

Docket Numbers: ER13-1508-006.

Applicants: Entergy Louisiana, LLC, Entergy New Orleans, LLC

Description: Informational Compliance Filing of Amended Power Purchase Agreement [Pro Forma Sheets] of Entergy Louisiana, LLC, et al.

Filed Date: 2/24/21.

Accession Number: 20210224-5196.

Comments Due: 5 p.m. ET 3/17/21.

Docket Numbers: ER21-1200-000.

Applicants: Midcontinent Independent System Operator, Inc.

Description: Request for One-Time, Limited Waiver of Tariff Provisions of Midcontinent Independent System Operator, Inc.

Filed Date: 2/25/21.

Accession Number: 20210225-5084.

Comments Due: 5 p.m. ET 2/25/21.

Docket Numbers: ER21-1201-000.

Applicants: PJM Interconnection, L.L.C.

Description: § 205(d) Rate Filing: Original WMPA 5973; Queue No. AG1-044 to be effective 1/26/2021.

Filed Date: 2/25/21.

Accession Number: 20210225-5002.

Comments Due: 5 p.m. ET 3/18/21.

Docket Numbers: ER21-1202-000.

Applicants: Southwest Power Pool, Inc.

Description: § 205(d) Rate Filing: Revisions to Attachment A Section 2.5 of the WEIS Tariff to be effective 4/27/2021.

Filed Date: 2/25/21.

Accession Number: 20210225-5050.

Comments Due: 5 p.m. ET 3/18/21.

Docket Numbers: ER21-1203-000.

Applicants: Birchwood Power Partners, L.P.

Description: Tariff Cancellation: Cancellation entire tariff to be effective 3/1/2021.

Filed Date: 2/25/21.

Accession Number: 20210225-5066.

Comments Due: 5 p.m. ET 3/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2021.
Nathaniel J. Davis, Sr.,
Deputy Secretary.

[FR Doc. 2021-04381 Filed 3-2-21; 8:45 am]

BILLING CODE 6717-01-P